DEPARTMENT OF HEALTH AND HUMAN SERVICES

Administration for Children and Families

Submission for OMB Review; Comment Request

Title: Child Care and Development Fund Quarterly Financial Report (ACF-696).

OMB No.: 0970-0163.

Description: States and territories use this form to facilitate the reporting of expenditures for the Child Care and Development Fund (CCDF) on a quarterly basis. The form provides specific data regarding expenditures, obligations, and estimates. It provides states and territories with a mechanism to request grant awards and certify the availability of state matching funds. Failure to collect this data would seriously compromise the Administration for Children and Families' (ACF) ability to monitor expenditures. This form may also be used to prepare ACF budget submissions to Congress. This information collection currently uses ACF-696 for which Office of Management and Budget approval expires on December 31, 2003, updated for electronic submission.

Respondents: States and territories that are CCDF grantees.

Annual Burden Estimates:

Instrument | Number of respondents | Number of responses per respondent | Average burden hours per response | Total burden hours
ACF-696 | 56 | 4 | 5 | 1120

Estimated Total Annual Burden Hours: 1120.

Additional Information: Copies of the proposed collection may be obtained by writing to the Administration for Children and Families, Office of Administration, Office of Information Services, 370 L'Enfant Promenade, SW., Washingotn, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: lauren_wittenberg@omb.eop.gov.

Dated: January 8, 2004.
Robert Sargis,
Reports Clearance Officer.

[FR Doc. 04-774 Filed 1-13-04; 8:45 am]

BILLING CODE 4184-01-M